DEPARTMENT OF TRANSPORTATION

[Docket No. DOT-OST-2004-16951]

Request for Comments of a Reinstatement With Change of a Previously Approved Information Collection: Aircraft Accident Liability Insurance

AGENCY: Office of the Secretary, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on October 2, 2019 [Vol. 84, No. 190, Page 52172]. No comments were received.

DATES: Comments must be submitted on or before January 15, 2020.

ADDRESSES: Send comments regarding the burden estimate, including suggestions for reducing the burden, to the Office of Management and Budget, Attention: Desk Officer for the Office of the Secretary of Transportation, 725 17th Street NW, Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Barbara Snoden, (202) 366-4834, Office of Aviation Analysis, Office of the Secretary, U.S. Department of Transportation, 1200 New Jersey Avenue SE, Washington, DC 20590.

SUPPLEMENTARY INFORMATION:

Title: Aircraft Accident Liability Insurance.

OMB Control Number: 2106-0030.

Type of Request: Reinstatement with changes of a previously approved collection.

Abstract: 49 U.S.C. 41112 provides that an air carrier may not be issued or continue to hold air carrier authority unless it has filed with DOT evidence that it possesses insurance in accordance with DOT regulations. 14 CFR part 205 establishes procedures for filing evidence of liability insurance for air carriers, and contains the minimum requirements for air carrier accident liability insurance to protect the public from losses, and directs that certificates evidencing appropriate coverage must be filed with the Department. This insurance information is submitted to DOT using OST Form 6410 (U.S. air carriers) or OST Form 6411 (foreign air carriers).

DOT expects to receive approximately 2,051 filed insurance certificates from U.S. air carriers and approximately 457 filed certificates from foreign air carriers. DOT expects to receive approximately 2,728 amended certificates each year from U.S. air carriers and approximately 608 amended filings from foreign air carriers. Total respondents expected is approximately 2,508. Further, DOT expects filers of certificates to take 30 minutes to complete the form and approximately 15 minutes (for approximately 5 percent of respondents) to prepare amendments to the form. Thus, the total annual burden is expected to be 875 hours.

Affected Public: U.S. and foreign air carriers.

Number of Respondents: 2,508.

Frequency: On occasion.

Number of Responses: 3,336.

Total Annual Burden: 875 hours.

Authority: The Paperwork Reduction Act of 1995; 14 CFR part 205.

Issued in Washington, DC, on December 10, 2019.
Lauralyn J. Remo,
Chief, Air Carrier Fitness, Office of Aviation Analysis.

[FR Doc. 2019-27006 Filed 12-13-19; 8:45 am]

BILLING CODE 4910-9X-P